FEDERAL MARITIME COMMISSION

[Docket No. 09-03]

Naveena Exports, Ltd. v. Go-Trans, Inc.; Notice of Complaint and Assignment

Notice is given that a complaint has been filed with the Federal Maritime Commission (“Commission”) by Naveena Exports, Ltd., hereinafter “Complainant.” Complainant asserts that it is a foreign limited partnership organized under the laws of the State of Pakistan that manufactures and imports apparel goods to the United States. Complainant alleges that Respondent Go-Trans, Inc., is an Ocean Transportation Intermediary organized under the laws of the State of New York. Complainant states that between April 2008 and July 2008, Complainant used Respondent to ship apparel goods from Karachi, Pakistan to the United States for delivery to Ambition Apparel, Inc., hereinafter “Buyer.” Complainant further states that Respondent released four containers of apparel to Buyer without being presented an original house bill of lading and without Complainant's consent. Complainant asserts that no payment has been received from Buyer for the shipped goods and control of the goods has been lost. Complainant contends that Respondent's actions violated the Shipping Act of 1984, as amended, by failing to establish, observe, and enforce just and reasonable regulations and practices relating to or connected with receiving, handling, storing, or delivering property. 46 U.S.C. 41102(c). Respondent states that Complainant has agreed not to contest this Complaint in order to allow Complainant to secure the release of FMC Bond No. 18084F, in partial payment of the total damages incurred by Complainant. Complainant requests that the Commission issue an order for reparations in favor of Complainant and against Respondent, in the amount of $342,070.80, and that the Commission grant such other, proper, and further relief, in accordance with its delegated powers, as it may deem just, proper, and equitable in the circumstances.

This proceeding has been assigned to the Office of the Administrative Law Judges. Pursuant to the Commission's Rules of Practice and Procedure, 46 CFR 502.181 (Subpart K—Shortened Procedure) Complainant has requested that its complaint be handled on an expedited basis. Under this procedure, with the consent of the parties and with the approval of the presiding officer, this proceeding may be conducted under shortened procedure without oral hearing, except that a hearing may be ordered by the presiding officer at the request of either party to the proceeding or at the presiding officer's discretion. Within 25 days of the date of service of the complaint, Respondent shall, if they consent to the shortened procedure, file with the Commission and serve on the Complainant, its answering memorandum of facts and arguments relied upon. Within 15 days after the date of service of Respondent's answering memorandum, Complainant may file with the Commission and serve on the Respondent, their reply. This will close the record for decision unless the presiding officer orders the submission of additional evidentiary material. If Respondent does not consent to this shortened procedure, the matter will be governed by 46 CFR 502.61 (Subpart E—Proceedings, Pleadings, Motions, Replies). Pursuant to the further terms of 46 CFR 502.61, the initial decision of the presiding officer in this proceeding shall be issued by July 7, 2010, and the final decision of the Commission shall be issued by November 4, 2010.

Karen V. Gregory,
Secretary.

[FR Doc. E9-16428 Filed 7-10-09; 8:45 am]

BILLING CODE P